DEPARTMENT OF COMMERCE

International Trade Administration

[A-520-804]

Certain Steel Nails from the United Arab Emirates: Final Results of Antidumping Duty Administrative Review; 2011-2013

AGENCY: Enforcement and Compliance, International Trade Administration, Department of Commerce.

SUMMARY: On June 24, 2014, the Department of Commerce (the Department) published the preliminary results of the administrative review of the antidumping duty order on certain steel nails from the United Arab Emirates (UAE). The period of review (POR) is November 3, 2011, through April 30, 2013. The review covers two producers/exporters of the subject merchandise, Dubai Wire FZE (Dubai Wire) and Precision Fasteners, L.L.C. (Precision). For these final results, we continue to find subject merchandise has been sold in the United States at less than normal value.

DATES: Effective Date: December 30, 2014.

FOR FURTHER INFORMATION CONTACT: Bryan Hansen or Michael Romani, AD/CVD Operations, Office I, Enforcement and Compliance, International Trade Administration, U.S. Department of Commerce, 14th Street and Constitution Avenue NW., Washington, DC 20230; telephone: (202) 482-3683 or (202) 482-0198, respectively.

SUPPLEMENTARY INFORMATION:

Background

On June 24, 2014, the Department published the preliminary results of the administrative review of the antidumping duty order on certain steel nails from the United Arab Emirates.¹ On September 30, 2014, we extended the due date for the final results to December 22, 2014.² On October 16, 2014, we issued a post-preliminary analysis finding that: (i) Dubai Wire's affiliated ³ importer, Itochu Building Products Inc., and affiliated ⁴ distributor, PrimeSource Building Products Inc., (collectively, IBP) employed an acceptable constructed export price (CEP) sales reporting methodology; (ii) certain submissions by Dubai Wire accompanied by certifications signed by a representative of IBP meet the requirements of 19 CFR 351.303(g); (iii) it was appropriate to rely on facts available without an adverse inference with respect to certain reported CEP sales data; and (iv) using the revised export price (EP) and CEP databases, we recalculated Dubai Wire's margin.⁵

¹ See Certain Steel Nails From the United Arab Emirates: Preliminary Results of Antidumping Duty Administrative Review; 2011-2013, 79 FR 35721 (June 24, 2014) (Preliminary Results).

² See Memorandum to Christian Marsh, Deputy Assistant Secretary for Antidumping and Countervailing Duty Operations “Certain Steel Nails from the United Arab Emirates: Extension of Time Limit for Final Results of Antidumping Duty Administrative Review; 2011-2013” dated September 30, 2014.

³ For details on our affiliation determination, see Memorandum to Thomas Gilgunn, Office Director, AD/CVD Operations, Office I, “Certain Steel Nails from the United Arab Emirates—Affiliation Memorandum for Dubai Wire FZE” dated May 28, 2014.

⁴ Id.

⁵ See Memorandum to Paul Piquado, Assistant Secretary for Enforcement and Compliance “Administrative Review of the Antidumping Duty Order on Certain Steel Nails from the United Arab Emirates—Post-Preliminary Results Analysis Memorandum; 2011-2013” dated October 16, 2014 (Post-Preliminary Results).

We invited interested parties to comment on the Preliminary Results and Post-Preliminary Results. We received case briefs from Mid Continent Steel & Wire, Inc. (the petitioner), and IBP on October 31, 2014, concerning Dubai Wire. These parties submitted rebuttal comments on November 5, 2014. We received no case or rebuttal briefs concerning Precision. A hearing was requested by IBP, but that request was later withdrawn.

The Department conducted this administrative review in accordance with section 751 of the Tariff Act of 1930, as amended (the Act).

Scope of the Order

The merchandise subject to the Order ⁶ is certain steel nails from the UAE. The products are currently classifiable under the Harmonized Tariff Schedule of the United States (HTSUS) subheadings 7317.00.55, 7317.00.65, and 7317.00.75. The HTSUS numbers are provided for convenience and customs purposes. The written description of the scope of the order is dispositive.⁷

⁶ See Certain Steel Nails from the United Arab Emirates: Amended Final Determination of Sales at Less Than Fair Value and Antidumping Duty Order, 77 FR 27421 (May 10, 2012) (Order).

⁷ For a full description of the scope of the order, See the memorandum from Deputy Assistant Secretary Christian Marsh to Assistant Secretary Paul Piquado entitled “Certain Steel Nails from the United Arab Emirates: Issues and Decision Memorandum for Final Results of Antidumping Duty Administrative Review; 2011-2013” dated concurrently with and hereby adopted by this notice (Issues and Decision Memorandum).

Analysis of the Comments Received

All issues raised in the case and rebuttal briefs by parties to this administrative review are addressed in the Issues and Decision Memorandum. A list of the issues which parties have raised and to which we have responded is in the Issues and Decision Memorandum and attached to this notice as an Appendix. The Issues and Decision Memorandum is a public document and is on file electronically via Enforcement and Compliance's Antidumping and Countervailing Duty Centralized Electronic Service System (ACCESS). ACCESS is available to registered users at https://access.trade.gov and it is available to all parties in the Central Records Unit (CRU), room 7046 of the main Department of Commerce building. In addition, a complete version of the Issues and Decision Memorandum can be accessed directly on the internet at http://enforcement.trade.gov/frn/index.html.

Changes Since the Preliminary Results

Based on our analysis of the comments received, we made certain revisions to the weighted-average dumping margin calculation for Dubai Wire, which we included in the Post-Preliminary Results, where applicable. A detailed discussion of each change made is in the company-specific analysis memorandum dated concurrently with this notice, which is on file electronically via ACCESS and in the CRU of the main Commerce building.⁸ No changes have been made with respect to our determination for Precision.

⁸ See the company-specific final analysis memorandum for Dubai Wire dated concurrently with this notice.

Final Results of the Review

We determine that the following weighted-average dumping margins exist for the period November 3, 2011, through April 30, 2013:

Company | Weighted- average dumping margin (percent)
Dubai Wire FZE | 18.13
Precision Fasteners, L.L.C. | 184.41

Assessment Rates

The Department shall determine, and U.S. Customs and Border Protection (CBP) shall assess, antidumping duties on all appropriate entries covered by this review. In accordance with 19 CFR 351.212(b)(1), for Dubai Wire, we calculated an importer- (or customer-) specific assessment rate on the basis of the ratio of the total amount of antidumping duties calculated for an importer's examined sales and the total entered value of such sales. We have continued to rely on adverse facts available to establish Precision's weighted-average dumping margin in these final results, and therefore, we will instruct CBP to apply an ad valorem assessment rate of 184.41 percent to all entries of subject merchandise during the POR which were produced and/or exported by Precision. We will instruct CBP to take into account the “provisional measures cap” in accordance with 19 CFR 351.212(d).

The Department clarified its “automatic assessment” regulation on May 6, 2003.⁹ This clarification will apply to entries of subject merchandise during the POR produced by Dubai Wire for which it did not know its merchandise was destined for the United States. In such instances, we will instruct CBP to liquidate unreviewed entries at the all-others rate if there is no rate for the intermediate company(ies) involved in the transaction.

⁹ For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following deposit requirements will be effective upon publication of the notice of final results of administrative review for all shipments of certain steel nails from the UAE entered, or withdrawn from warehouse, for consumption on or after the date of publication as provided by section 751(a)(2) of the Act: (1) The cash deposit rate for Dubai Wire and Precision will be the rates established in the final results of this administrative review; (2) for previously reviewed or investigated companies not listed above, the cash deposit rate will continue to be the company-specific rate published for the most recently completed segment of this proceeding; (3) if the exporter is not a firm covered in this review, a prior review, or the original investigation but the manufacturer is, the cash deposit rate will be the rate established for the manufacturer of the merchandise for the most recently completed segment of this proceeding; (4) the cash deposit rate for all other manufacturers or exporters will continue to be 4.30 percent.¹⁰ These cash deposit requirements, when imposed, shall remain in effect until further notice.

¹⁰ The all-others rate established in the Order.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or the destruction of APO materials or conversion to judicial protective order is hereby requested. Failure to comply with the regulations and the terms of an APO is a sanctionable violation.

The final results of this administrative review are issued and published in accordance with sections 751(a)(1) and 777(i)(1) of the Act.

Dated: December 22, 2014.
Paul Piquado,
Assistant Secretary for Enforcement and Compliance.

Appendix

I. Summary

II. Background

III. Scope of the Order

IV. Facts Available

V. Discussion of the Issues

Comment 1: Dubai Wire Affiliation

Comment 2: Non-Dubai Wire Company Certifications

Comment 3: Dubai Wire Third-Country Market Viability

Comment 4: IBP's Data Reporting Methodology

Comment 5: Commissions in the United States

Comment 6: Freight Revenue Cap

Comment 7: Quantity Adjustments

VI. Recommendation

[FR Doc. 2014-30541 Filed 12-29-14; 8:45 am]

BILLING CODE 3510-DS-P